Title 3—

The President

Proclamation 7443 of May 22, 2001

National Hurricane Awareness Week, 2001

By the President of the United States of America

A Proclamation

One of the most dramatic, damaging, and potentially deadly weather events is a hurricane. Each year on average, six hurricanes develop over the Atlantic Ocean, Caribbean Sea, or Gulf of Mexico. Many of these remain over the ocean with little or no impact on the continental United States. Unfortunately, though, on average five hurricanes strike the United States coastline every 3 years. These storms can cause significant damage that can cost individuals, businesses, and government billions of dollars. Worst of all, however, is the loss that can never be recovered: human life.

Currently more than 48 million people live along hurricane-prone coastlines in the United States. The growing number of residents living in these areas, as well as the millions of tourists who visit our Nation's beaches annually, has increased the difficulties in evacuating people from areas that are threatened by an impending hurricane. This problem is further compounded by the fact that a large majority of people living in these areas have never experienced the force of a major hurricane and its devastating impact.

Increasingly, many Americans have begun working to ensure that commonsense measures are implemented to protect themselves and their property from natural disasters including floods, tornadoes, and earthquakes. Their foresight, hard work, and respect for the awesome power of nature often yields great benefits for their communities. They are to be commended for this preventive work, and we should learn from their example as we plan for future disasters.

All Americans must be more vigilant about preparing for disasters in advance, rather than just responding to them after they occur. Specific actions can be taken in advance of a storm that will further protect property, help to ensure that businesses are able to resume work quickly after a storm, and ultimately save lives. In addition, the Federal Emergency Management Agency (FEMA) estimates that for every dollar spent in damage prevention, two are saved in repairs.

The National Oceanic and Atmospheric Administration's (NOAA) researchers and forecasters continue to improve the accuracy of hurricane warnings that enable residents to evacuate and emergency personnel to effectively respond well in advance of the storm's arrival. In addition, FEMA and NOAA have focused their resources toward encouraging community leaders to work with Federal, State, and local agencies, as well as volunteer agencies, schools, the private sector, and the news media to collectively undertake activities that diminish the destruction of natural disasters. For hurricane-prone areas, these measures can include residents stockpiling emergency provisions, learning evacuation routes, installing hurricane shutters, building residential safe rooms and community shelters, adopting stronger building codes, and retrofitting existing buildings. These measures have proved effective, and I encourage citizens living in these areas to look for ways that they can better prepare themselves and their communities to reduce the potential devastating impact of these storms.

NOW, THEREFORE, I, GEORGE W. BUSH, President of the United States of America, by virtue of the authority vested in me by the Constitution and laws of the United States, do hereby proclaim May 20 through May 26, 2001, as National Hurricane Awareness Week. I call upon government agencies, private organizations, schools, news media, and residents in hurricane-prone areas to work towards the prevention of needless storm damage and to join me in raising awareness of the hazards posed by hurricanes.

IN WITNESS WHEREOF, I have hereunto set my hand this twenty-second day of May, in the year of our Lord two thousand one, and of the Independence of the United States of America the two hundred and twenty-fifth.

B

[FR Doc. 01-13367

Filed 5-23-01; 8:45 am]

Billing code 3195-01-P